DEPARTMENT OF THE INTERIOR

Fish and Wildlife Service

[FWS-HQ-MB-2020-N157; [FF09M28100, FXMB1231092MFR0, 212]; OMB Control Number 1018-New]

Agency Information Collection Activities; Online Eastern Population Sandhill Crane Survey Data Entry Portal

AGENCY: Fish and Wildlife Service, Interior.

ACTION: Notice of information collection; request for comment.

SUMMARY: In accordance with the Paperwork Reduction Act of 1995, we, the United States Fish and Wildlife Service (Service), are proposing a new information collection.

DATES: Interested persons are invited to submit comments on or before March 5, 2021.

ADDRESSES: Send your comments on the information collection request (ICR) by mail to the Service Information Collection Clearance Officer, U.S. Fish and Wildlife Service, MS: PRB (JAO/3W), 5275 Leesburg Pike, Falls Church, VA 22041-3803 (mail); or by email to Info_Coll@fws.gov. Please reference OMB Control Number “1018-Sandhill Cranes” in the subject line of your comments.

FOR FURTHER INFORMATION CONTACT: To request additional information about this ICR, contact Madonna L. Baucum, Service Information Collection Clearance Officer, by email at Info_Coll@fws.gov, or by telephone at (703) 358-2503. Individuals who are hearing or speech impaired may call the Federal Relay Service at 1-800-877-8339 for TTY assistance.

SUPPLEMENTARY INFORMATION: In accordance with the Paperwork Reduction Act (PRA, 44 U.S.C. 3501 et seq.) and its implementing regulations at 5 CFR 1320, all information collections require approval under the PRA. We may not conduct or sponsor and you are not required to respond to a collection of information unless it displays a currently valid OMB control number.

As part of our continuing effort to reduce paperwork and respondent burdens, we invite the public and other Federal agencies to comment on new, proposed, revised, and continuing collections of information. This helps us assess the impact of our information collection requirements and minimize the public's reporting burden. It also helps the public understand our information collection requirements and provide the requested data in the desired format.

We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How might the agency minimize the burden of the collection of information on those who are to respond, including through the use of appropriate automated, electronic, mechanical, or other technological collection techniques or other forms of information technology, e.g., permitting electronic submission of response.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: The Migratory Bird Treaty Act (16 U.S.C. 703-712) designates the Department of the Interior as the primary agency responsible for managing migratory bird populations frequenting the United States and setting hunting regulations that allow for the well-being of migratory bird populations. These responsibilities dictate that we gather accurate data on various characteristics of migratory bird populations.

The Service's fall survey for eastern population sandhill crane was established in 1979. It is implemented by state and Federal agencies and public volunteers from eight states in the Atlantic and Mississippi Flyways, as well as Ontario, Canada. Sandhill cranes are widely dispersed during the breeding and wintering seasons and are difficult to count. The optimal time to survey cranes is during the last week of October when the majority of eastern population cranes breeding in Canada migrate to traditional staging grounds in the Great Lake States (e.g., Jasper-Pulaski Fish and Wildlife Area, Medaryville, Indiana). Since the initial survey in 1979, crane numbers have increased to over 90,000 birds.

The information collected through this survey is vital in assessing the relative changes in the geographic distribution of the species. We use the information primarily to inform managers of changes in sandhill crane distribution and population trends. Without information on the population's status, we might promulgate hunting regulations that:

• Are not sufficiently restrictive, which could cause harm to the sandhill crane population, or

• Are too restrictive, which would unduly restrict recreational opportunities afforded by sandhill crane hunting.

Notifications for the survey are sent to volunteers and data results are entered into the data portal in order to calculate an abundance of sandhill cranes. This survey is conducted via an online survey platform to reduce cost, improve data quality, and decrease respondent burden. This survey has no statistical design. We collect the following information in conjunction with the account setup process and survey data submission:

• Account setup process:

○ Email address,

○ User name,

○ Photo (optional),

○ Option for other users to contact the registrant,

○ Time zone,

○ First and last name,

○ Phone number, and

○ Start date.

• Survey data submission:

○ Data submission location via online map,

○ Date and time of observation,

○ Number of cranes,

○ Method (ground count or point count),

○ Habitat (agricultural field, sandbar, wetland, or mixed-wetland agricultural field), and

○ Any additional notes the user would like to submit.

We received OMB approval to conduct usability testing of the data entry portal in 2019 under Interior's Fast Track clearance process “DOI Generic Clearance for the Collection of Qualitative Feedback on Agency Service Delivery” (OMB Control No. 1090-0011). After conducting the usability testing of the data entry portal for one year, we are now ready to seek OMB's full approval of this information collection under the PRA.

Title of Collection: Online Eastern Population Sandhill Crane Survey Data Entry Portal.

OMB Control Number: 1018-New.

Form Number: None.

Type of Review: New.

Respondents/Affected Public: Individuals and state agencies.

Respondent's Obligation: Voluntary.

Frequency of Collection: One time for the initial registration, and on occasion for survey submission.

Total Estimated Annual Nonhour Burden Cost: None.

Requirement | Average number of annual respondents | Average number of responses each | Average number of annual responses * | Average completion time per response (mins) | Estimated annual burden hours *
Account Registration:
Individuals | 33 | 1 | 33 | 5 | 3
State agencies | 18 | 1 | 18 | 5 | 2
Online Survey Submission:
Individuals | 38 | 2 | 76 | 3 | 4
State agencies | 23 | 1.3 | 30 | 3 | 2
Totals | 112 |  | 157 |  | 11
* Rounded.

An agency may not conduct or sponsor and a person is not required to respond to a collection of information unless it displays a currently valid OMB control number.

The authority for this action is the Paperwork Reduction Act of 1995 (44 U.S.C. 3501 et seq.).

Dated: December 29, 2020.
Madonna Baucum,
Information Collection Clearance Officer, U.S. Fish and Wildlife Service.

[FR Doc. 2020-29047 Filed 12-31-20; 8:45 am]

BILLING CODE 4333-15-P